OFFICE OF PERSONNEL MANAGEMENT

Virtual Public Meeting; Federal Salary Council

AGENCY: Office of Personnel Management.

ACTION: Notice.

SUMMARY: The Federal Salary Council will meet virtually on Friday, August 5, 2022, at the time shown below. There will be no in-person gathering for this meeting.

The Council is an advisory body composed of representatives of Federal employee organizations and experts in the fields of labor relations and pay policy. The Council's recommendations cover the establishment or modification of locality pay areas, the coverage of salary surveys, the process of comparing Federal and non-Federal rates of pay, and the level of comparability payments that should be paid.

The Council will hear public testimony about the locality pay program, review the results of pay comparisons, and formulate its recommendations to the President's Pay Agent on pay comparison methods, locality pay rates, and locality pay areas and boundaries for 2023.

This meeting is open to the public through advance registration. Individuals who wish to provide testimony or present material at the meeting should contact the Office of Personnel Management using the email address provided below. In addition, please be aware that the Council may need to set limits on the time that will be provided for hearing oral testimony in the meeting. However, the Council can consider lengthier input in written material provided in advance of the public meeting. There are no restrictions on format for such written input.

DATES: The virtual meeting will be held on Friday, August 5, 2022, beginning at 10:00 a.m. Eastern Daylight Time.

ADDRESSES: The meeting will convene virtually.

FOR FURTHER INFORMATION CONTACT: Joe Ratcliffe at 202-936-3081, or by email at pay-leave-policy@opm.gov.

SUPPLEMENTARY INFORMATION: The Council makes recommendations to the President's Pay Agent (the Secretary of Labor and the Directors of the Office of Management and Budget and the Office of Personnel Management) about the locality pay program for General Schedule employees under section 5304 of title 5, United States Code.

Public Participation: The August 5, 2022, meeting of the Federal Salary Council is open to the public through registration. All individuals who plan to attend the virtual public meeting to listen must register by sending an email to pay-leave-policy@opm.gov with the subject line “August 5 FSC Public Meeting” no later than Wednesday, August 3, 2022.

The following information must be provided when registering:

• Name/Title,

• Organization,

• Email address, and

• Area represented (if applicable).

Members of the press, in addition to registering for this event, must also RSVP to media@opm.gov by August 3, 2022.

A confirmation email will be sent upon receipt of the registration. If you do not receive the confirmation email within a business day of registering, please check your spam filter or junk email folder. Information for participation will be sent to registrants the day before the virtual meeting.

U.S. Office of Personnel Management.
Stephen Hickman,
Federal Register Liaison.

[FR Doc. 2022-14587 Filed 7-7-22; 8:45 am]

BILLING CODE 6325-39-P